DEPARTMENT OF COMMERCE

International Trade Administration

[Application No. 18-1A002]

Export Trade Certificate of Review

ACTION: Notice of Issuance of an Export Trade Certificate of Review to Alaska Groundfish Commission (“AGC”), Application Number 18-1A002.

SUMMARY: The Secretary of Commerce, through the Office of Trade and Economic Analysis (“OTEA”), issued an Export Trade Certificate of Review to AGC on December 19, 2019.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

AGC's Export Trade Certificate of Review has been amended as follows:

• The following entities were added as Members of the Certificate within the meaning of section 325.2(1) of the Regulations (15 CFR 325.2(1)).

○ America's Finest Fishing, LLC, Kirkland, WA

○ Arica Vessel, LLC, Seattle, WA

○ Cape Horn Vessel, LLC, Seattle, WA

○ Fisherman's Finest International, Inc., Kirkland, WA

○ Fishermen's Finest, Inc., Kirkland, WA

○ Fishermen's Finest Holdings, LLC, Kirkland, WA

○ Glacier Fish Company LLC, Seattle, WA

○ Golden-Tech International, LLC, Bellevue, WA

○ Iquique Disc, Inc., Seattle, WA

○ North Pacific Fishing, LLC, Kirkland, WA

○ North Star Fishing Company LLC, Seattle, WA

○ North Star Vessel, LLC, Seattle, WA

○ Rebecca Irene Vessel, LLC, Seattle, WA

○ Unimak Vessel, LLC, Seattle, WA

○ United States Seafoods, LLC, Seattle, WA

○ US Fishing, LLC, Kirkland, WA

○ USS International, Inc., Seattle, WA

AGC's Export Trade Certificate of Review Membership, as amended, is below:

1. AK Victory, Inc., Seattle, WA

2. Alaska Warrior, Inc., Seattle, WA

3. America's Finest Fishing, LLC, Kirkland, WA

4. Arica Vessel, LLC, Seattle, WA

5. Cape Horn Vessel, LLC, Seattle, WA

6. Fisherman's Finest International, Inc., Kirkland, WA

7. Fishermen's Finest, Inc., Kirkland, WA

8. Fishermen's Finest Holdings, LLC, Kirkland, WA

9. Glacier Fish Company LLC, Seattle, WA

10. Golden-Tech International, LLC, Bellevue, WA

11. Iquique Disc, Inc., Seattle, WA

12. M/V Savage, Inc., Seattle, WA

13. North Pacific Fishing, LLC, Kirkland, WA

14. North Star Fishing Company LLC, Seattle, WA

15. North Star Vessel, LLC, Seattle, WA

16. O'Hara Corporation, Rockland, ME

17. O'Hara DISC, Inc., Rockland, ME

18. Ocean Peace, Inc., Seattle, WA

19. Rebecca Irene Vessel, LLC, Seattle, WA

20. The Fishing Company of Alaska, Inc., Seattle, WA

21. Unimak Vessel, LLC, Seattle, WA

22. United States Seafoods, LLC, Seattle, WA

23. US Fishing, LLC, Kirkland, WA

24. USS International, Inc., Seattle, WA

The effective date of the Certificate is September 24, 2019, the date on which AGC's application was deemed submitted.

Dated: December 19, 2019.
Joseph Flynn,
Director, Office of Trade and Economic Analysis, International Trade Administration, U.S. Department of Commerce.

[FR Doc. 2019-27867 Filed 12-26-19; 8:45 am]

BILLING CODE 3510-DR-P